DEPARTMENT OF COMMERCE

International Trade Administration

(A-428-830)

Notice of Extension of Final Results of Antidumping Duty Administrative Review: Stainless Steel Bar from Germany

AGENCY: Import Administration, International Trade Administration, Department of Commerce.

EFFECTIVE DATE: May 11, 2006.

FOR FURTHER INFORMATION CONTACT: Brandon Farlander or Natalie Kempkey, at (202) 482-0182 or (202) 482-1698, respectively; AD/CVD Operations, Office 1, Import Administration, International Trade Administration, U.S. Department of Commerce, 14th Street & Constitution Avenue, NW, Washington, DC 20230.

SUPPLEMENTARY INFORMATION:

Background

On February 3, 2006, the Department of Commerce (“the Department”) published the preliminary results of the administrative review of the antidumping order on stainless steel bar from Germany for the period March 1, 2004, through February 28, 2005 (See Stainless Steel Bar from Germany: Preliminary Results of Antidumping Administrative Review, 71 FR 5811 (February 3, 2006) (“Preliminary Results”)). The current deadline for the final results of this review is June 5, 2006.

Extension of Time Limit for Final Results of Review

Section 751(a)(3)(A) of the Tariff Act of 1930, as amended (“the Act”), requires the Department to issue (1) the preliminary results of a review within 245 days after the last day of the month in which occurs the anniversary of the date of publication of an order or finding for which a review is requested, and (2) the final results within 120 days after the date on which the preliminary results are published. However, if it is not practicable to complete the review within that time period, section 751(a)(3)(A) of the Act allows the Department to extend the time limit for the preliminary results to a maximum of 365 days and the final results to a maximum of 180 days (or 300 days if the Department does not extend the time limit for the preliminary results) from the date of the publication of the preliminary results. See 19 CFR 351.213(h)(2).

We determine that it is not practicable to complete the final results of this review within the original time limits. Due to the complexity of issues present in this administrative review, such as BGH's claim of a downward adjustment to normal value for home market commissions and the Department's upward adjustment to BGH's cost of manufacture, the Department needs more time to address these items and evaluate the issues more thoroughly. Therefore, we are extending the deadline for the final results of this review by 30 days. Accordingly, the final results will be issued no later than July 3, 2006.

This extension is in accordance with section 751(a)(3)(A) of the Act and 19 CFR 351.213(h)(2).

Dated: May 5, 2006.
Stephen J. Claeys,
Deputy Assistant Secretary for Import Administration.

[FR Doc. E6-7225 Filed 5-10-06; 8:45 am]

BILLING CODE 3510-DS-S